ENVIRONMENTAL PROTECTION AGENCY

[ER-FRL-9044-1]

Environmental Impact Statements; Notice of Availability

Responsible Agency: Office of Federal Activities, General Information 202-564-5632 or https://www.epa.gov/nepa/.

Weekly receipt of Environmental Impact Statements

Filed 03/18/2019 through 03/22/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190036, Draft Supplement, NRCS, MO, Supplemental Environmental Impact Statement Little Otter Creek Watershed Plan, Comment Period Ends: 05/13/2019, Contact: Chris Hamilton 573-876-0912.

EIS No. 20190037, Final, FHWA, NC, I-4400/I-4700 I-26 Widening Combined Final Environmental Impact Statement, Final Section 4(f) Evaluation, and Record of Decision, Contact: Clarence W. Coleman, PE 919-747-7014.

Under 23 U.S.C. 139(n)(2), FHWA has issued a single document that consists of a final environmental impact statement and record of decision. Therefore, the 30-day wait/review period under NEPA does not apply to this action.

EIS No. 20190038, Draft Supplement, USN, WA, Northwest Training and Testing Activities Draft Supplemental Environmental Impact Statement/Overseas Environmental Impact Statement, Comment Period Ends: 05/28/2019, Contact: Jacqueline Queen 360-257-3852.

EIS No. 20190039, Final, USFS, ID, Lolo Insect & Disease Project, Review Period Ends: 04/29/2019, Contact: Sara Daugherty 208-926-6404.

EIS No. 20190040, Final, NPS, ME, Acadia National Park Final Transportation Plan and EIS, Review Period Ends: 04/29/2019, Contact: John Kelly 207-288-8703.

EIS No. 20190041, Final, DOE, TX, ADOPTION—Texas LNG Project-Texas LNG Brownsville LLC, Contact: Brian Lavoie 202-586-2459.

The Department of Energy (DOE) has adopted the Federal Energy Regulatory Commission's Final EIS No. 20190034, filed 02/22/2019 with the EPA. DOE was a cooperating agency on this project. Therefore, recirculation of the document is not necessary under Section 1506.3(c) of the CEQ regulations.

Dated: March 25, 2019.
Robert Tomiak,
Director, Office of Federal Activities.

[FR Doc. 2019-06016 Filed 3-28-19; 8:45 am]

BILLING CODE 6560-50-P